DEPARTMENT OF COMMERCE

National Oceanic and Atmospheric Administration

[I.D. 080703D]

Endangered and Threatened Species; Take of Anadromous Fish

AGENCY: National Marine Fisheries Service (NMFS), National Oceanic and Atmospheric Administration (NOAA), Commerce.

ACTION: Issuance of 16 scientific research permits (1114, 1119, 1124, 1134, 1152, 1194, 1379, 1403, 1406, 1410, 1421, 1422, 1423, 1426, 1427, ) and six scientific research permit modifications (1290, 1291, 1322, 1335, 1366, 1382).

SUMMARY: Notice is hereby given that on June 30, 2003, NMFS' Northwest Region issued the permits and permit modifications allowing researchers to take endangered and threatened species for purposes of scientific research and enhancement under the Endangered Species Act (ESA).

ADDRESSES: The applications and related documents are available for review in the following office, by appointment:

Protected Resources Division, NOAA Fisheries, 525 NE Oregon Street, Suite 500, Portland, OR 97232-2737 (phone: 503-230-5400, fax: 503-230-5435).

FOR FURTHER INFORMATION CONTACT: Garth Griffin, Portland, Oregon (phone: (503) 231-2005, fax: (503) 230-5435, e-mail: garth.griffin@noaa.gov).

SUPPLEMENTARY INFORMATION:

Authority: Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Scientific research and enhancement permits are issued in accordance with and subject to Section 10(a)(1)(A) of the ESA and NMFS' regulations governing listed fish and wildlife permits (50 CFR parts 222-226). Authority to take listed species is subject to conditions set forth in the permits.

Species Covered in this Notice

The listed species (evolutionarily significant units) covered by this notice are identified below and listed in the subsequent table by the numbers that precede each of them in the following list:

(1) Endangered upper Columbia River steelhead (Oncorhynchus mykiss)

(2) Endangered upper Columbia River Chinook Salmon (O. tshawytscha)

(3) Endangered Snake River sockeye salmon (O. nerka)

(4) Threatened Snake River fall chinook salmon (O. mykiss)

(5) Threatened Snake River spring/summer chinook salmon (O. mykiss)

(6) Threatened Snake River steelhead (O. mykiss)

(7) Threatened middle Columbia River steelhead (O. mykiss)

(8) Threatened lower Columbia River chinook salmon (Oncorhynchus mykiss)

(9) Threatened lower Columbia River steelhead (O. mykiss)

(10) Threatened lower Columbia River chum salmon (O. keta)

(11) Threatened upper Willamette River chinook salmon (O. mykiss)

(12) Threatened upper Willamette River steelhead (O. mykiss)

(13) Threatened Puget Sound chinook salmon (Oncorhynchus mykiss)

(14) Threatened Hood Canal summer chum (O. keta)

(15) Threatened Ozette lake sockeye salmon (O. nerka)

(16) Threatened Oregon coast coho salmon (O. kisutch)

(17) Threatened southern Oregon-northern California coast coho salmon (O. kisutch)

Table 1. Twenty-two Scientific Research Permit Actions Affecting Threatened and Endangered Pacific Salmon and Steelhead
Permit No. | Affected species/ESU | Permittee | Federal Register notice of application receipt
1114 | 1, 2 | Washington Department of Fish and Wildlife | April 2, 2003 (68 FR 15997)
1119 | 1, 2 | U.S. Fish and Wildlife Service | April 30, 2003 (68 FR 23107)
1124 | 3, 4, 5 | Idaho Department of Fish and Game | April 2, 2003 (68 FR 15997)
1134 | 4, 5, 6 | Columbia River Inter-Tribal Fish Commission | April 2, 2003 (68 FR 15997)
1152 | 5, 6 | Oregon Department of Fish and Wildlife | April 2, 2003 (68 FR 15997)
1194 | 1, 2, 5 | Northwest Fisheries Science Center | April 30, 2003 (68 FR 23107)
1205 | 4, 5, 17 | Oregon Department of Environmental Quality | April 30, 2003 (68 FR 23107)
1290 | 1, 2, 4, 5, 7, 8 | Northwest Fisheries Science Center | April 2, 2003 (68 FR 15997)
1291 | 1-5, 7-9 | U.S. Geological Survey | April 2, 2003 (68 FR 15997)
1322 | 2, 4, 5, 8, 10, 11 | Northwest Fisheries Science Center | April 2, 2003 (68 FR 15997)
1335 | 1, 2, 8, 11, 12, 16, 17 | U.S. Forest Service | April 30, 2003 (68 FR 23107)
1366 | 1-6, 8, 9, 11 | Oregon Cooperative Fish and Wildlife Research Unit | April 30, 2003 (68 FR 23107)
1379 | 1-6, 8 | Columbia River Inter-Tribal fish Commission | April 30, 2003 (68 FR 23107)
1382 | 7 | U.S. Geological Survey | April 30, 2003 (68 FR 23107)
1403 | 5, 6, 7 | Northwest Fisheries Science Center | April 30, 2003 (68 FR 23107)
1406 | 5, 6 | Northwest Fisheries Science Center | April 30, 2003 (68 FR 23107)
1410 | 1-12, 14-17 | Northwest Fisheries Science Center | March 14, 2003 (68 FR 12342)
1421 | 1-10 | U.S. Fish and Wildlife Service | April 30, 2003 (68 FR 23107)
1422 | 1, 2, 7 | U.S. Forest Service | April 30, 2003 (68 FR 23107)
1423 | 1, 2 | U.S. Fish and Wildlife Service | April 30, 2003 (68 FR 23107)
1426 | 7 | Bonneville Power Administration | April 30, 2003 (68 FR 23107)
1427 | 8, 9, 11, 12 | Oregon Department of Environmental Quality | April 30, 2003 (68 FR 23107)

Dated: August 14, 2003.
Barbara Schroeder,
Acting Chief, Endangered Species Division, Office of Protected Resources, National Marine Fisheries Service.

[FR Doc. 03-21368 Filed 8-19-03; 8:45 am]

BILLING CODE 3510-22-S